DEPARTMENT OF HOMELAND SECURITY

U.S. Citizenship and Immigration Services

[CIS No. 2540-14; DHS Docket No. USCIS-2014-0003]

RIN 1615-ZB26

Extension of the Designation of Sudan for Temporary Protected Status

AGENCY: U.S. Citizenship and Immigration Services, Department of Homeland Security.

ACTION: Notice.

SUMMARY: Through this Notice, the Department of Homeland Security (DHS) announces that the Secretary of Homeland Security (Secretary) is extending the designation of Sudan for Temporary Protected Status (TPS) for 18 months from November 3, 2014 through May 2, 2016.

The extension allows currently eligible TPS beneficiaries to retain TPS through May 2, 2016, so long as they otherwise continue to meet the eligibility requirements for TPS. The Secretary has determined that an extension is warranted because the conditions in Sudan that prompted the TPS designation continue to be met. Sudan continues to experience ongoing armed conflict and other extraordinary and temporary conditions within the country that prevent its nationals from returning to the state in safety.

Through this Notice, DHS also sets forth procedures necessary for nationals of Sudan (or aliens having no nationality who last habitually resided in Sudan) to re-register for TPS and to apply for renewal of their Employment Authorization Documents (EADs) with U.S. Citizenship and Immigration Services (USCIS). Re-registration is limited to persons who have previously registered for TPS under the designation of Sudan and who were granted TPS. Certain nationals of Sudan (or aliens having no nationality who last habitually resided in Sudan) who have not previously applied for TPS may be eligible to apply under the late initial registration provisions, if they meet: (1) at least one of the late initial filing criteria; and, (2) all TPS eligibility criteria (including continuous residence in the United States since January 9, 2013, and continuous physical presence in the United States since May 3, 2013).

Current TPS beneficiaries under the Sudan designation may re-register during the 60-day re-registration period from September 2, 2014 through November 3, 2014. USCIS will issue new EADs with a May 2, 2016 expiration date to eligible Sudan TPS beneficiaries who timely re-register and apply for EADs under this extension. Given the timeframes involved with processing TPS re-registration applications, DHS recognizes that not all re-registrants will receive new EADs before their current EADs expire on November 2, 2014. Accordingly, through this Notice, DHS automatically extends the validity of EADs issued under the TPS designation of Sudan for 6 months through May 2, 2015, and explains how TPS beneficiaries and their employers may determine which EADs are automatically extended and their impact on Employment Eligibility Verification (Form I-9) and E-Verify processes.

DATES: The 18-month extension of the TPS designation of Sudan is effective November 3, 2014, and will remain in effect through May 2, 2016. The 60-day re-registration period runs from September 2, 2014 through November 3, 2014.

FOR FURTHER INFORMATION CONTACT:

• For further information on TPS, including guidance on the application process and additional information on eligibility, please visit the USCIS TPS Web page at http://www.uscis.gov/tps.

You can find specific information about this extension of Sudan for TPS by selecting “TPS Designated Country: Sudan” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS Notice. It is not for individual case status inquires.

• Applicants seeking information about the status of their individual cases can check Case Status Online, available at the USCIS Web site at http://www.uscis.gov, or call the USCIS National Customer Service Center at 800-375-5283 (TTY 800-767-1833).

• Further information will also be available at local USCIS offices upon publication of this Notice.

SUPPLEMENTARY INFORMATION:

Table of Abbreviations

BIA—Board of Immigration Appeals

CPA—Comprehensive Peace Agreement

DHS—Department of Homeland Security

DOS—Department of State

EAD—Employment Authorization Document

FNC—Final Nonconfirmation

Government—U.S. Government

GOS—Government of Sudan

IDP—Internally Displaced Person

IJ—Immigration Judge

INA—Immigration and Nationality Act

JEM—Justice and Equality Movement

OSC—U.S. Department of Justice, Office of Special Counsel for Immigration-Related Unfair Employment Practices

RSS—Republic of South Sudan

SAF—Sudan Armed Forces

SAVE—USCIS Systematic Alien Verification for Entitlements Program

Secretary—Secretary of Homeland Security

SPLM-N—Sudan People's Liberation Movement-North

TNC—Tentative Nonconfirmation

TPS—Temporary Protected Status

TTY—Text Telephone

UN—United Nations

USCIS—U.S. Citizenship and Immigration Services

What is temporary protected status (TPS)?

• TPS is a temporary immigration status granted to eligible nationals of a country designated for TPS under the Immigration and Nationality Act (INA), or to persons without nationality who last habitually resided in the designated country.

• During the TPS designation period, TPS beneficiaries are eligible to remain in the United States, may not be removed, and may obtain work authorization, so long as they continue to meet the requirements of TPS.

• TPS beneficiaries may also be granted travel authorization as a matter of discretion.

• The granting of TPS does not result in or lead to permanent resident status.

• When the Secretary terminates a country's TPS designation, beneficiaries return to the same immigration status they maintained before TPS, if any (unless that status has since expired or been terminated), or to any other lawfully obtained immigration status they received while registered for TPS.

When was Sudan designated for TPS?

On November 4, 1997, the Attorney General designated Sudan for TPS due to ongoing armed conflict and extraordinary and temporary conditions within that country. See Designation of Sudan Under Temporary Protected Status, 62 FR 59737 (Nov. 4, 1997). Following the initial designation of Sudan for TPS in 1997, the Attorney General and, later, the Secretary have extended TPS and/or redesignated Sudan for TPS a total of 13 times. In 2013, the Secretary both extended Sudan's designation and redesignated Sudan for TPS for 18 months through November 2, 2014. See Extension and Redesignation of Sudan for Temporary Protected Status, 78 FR 1872 (Jan. 9, 2013). This announcement is the 14th extension of TPS for Sudan since the original designation in 1997 and the first extension of TPS for Sudan since the 2013 redesignation.

What authority does the Secretary of Homeland Security have to extend the designation of Sudan for TPS?

Section 244(b)(1) of the INA, 8 U.S.C. 1254a(b)(1), authorizes the Secretary, after consultation with appropriate U.S. Government (Government) agencies, to designate a foreign state (or part thereof) for TPS if the Secretary finds that certain country conditions exist.¹ The Secretary may then grant TPS to eligible nationals of that foreign state (or aliens having no nationality who last habitually resided in that state). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation may be extended for an additional period of 6, 12 or 18 months. See INA section 244(b)(3)(C), 8 U.S.C. 1254a(b)(3)(C). If the Secretary determines that the foreign state no longer meets the conditions for TPS designation, the Secretary must terminate the designation. See INA section 244(b)(3)(B), 8 U.S.C. 1254a(b)(3)(B).

Why is the Secretary extending the TPS designation for Sudan through May 2, 2016?

Over the past year, DHS and the Department of State (DOS) have continued to review conditions in Sudan. Based on this review, and after consultations with DOS, the Secretary has determined that an 18-month extension is warranted because the armed conflict is ongoing and the extraordinary and temporary conditions that prompted the May 2013 extension and redesignation continue to exist.

Despite the end of the civil war achieved with the signing of the Comprehensive Peace Agreement (CPA) in 2005 and the secession of the Republic of South Sudan (RSS) in 2011, internal conflict continues to plague Sudan. A new round of peace negotiations began in February 2014 between rebel groups and the Government of Sudan (GOS). Currently, several territories along the border, including the Blue Nile and South Kordofan, are split between allegiances to the Sudan People's Liberation Movement—North (SPLM-N) and the GOS. The results of the ongoing RSS peace negotiations will have a direct impact on the stability of Sudan.

Ongoing armed conflict persists in several regions of Sudan. The GOS fought against opposition forces in the Darfur region and two southern states that also border the RSS, Blue Nile and South Kordofan. In 2011, rebel groups from all three regions formed the Sudan Revolutionary Front, a coalition that coordinates politically and militarily and advocates for the democratic change of government, while continuing military confrontation with the GOS. People in Eastern Sudan, which has remained relatively peaceful since the 2006 East Sudan Peace Agreement (ESPA) have complained that the government had failed to fulfill its promises in the ESPA. Abyei, claimed by both South Sudan and Sudan, held a non-binding referendum in October 2013 in which the population voted to become part of South Sudan, but the referendum process failed to meet international standards and therefore was not considered legitimate by the international community. A lasting determination of Abyei's status remains elusive and there is concern that violence in that area could erupt at any time. The outbreak of violence in the RSS on December 15, 2013 aggravated the humanitarian crisis along the Sudan and RSS border, forcing an estimated 86,000 people to flee to Sudan as of July 2014, with more expected to arrive in the coming months.

Blue Nile and South Kordofan states have historically been centers of hostility towards the GOS. The 2005 CPA that ended the civil war specified that Southern Kordofan and Blue Nile states would hold popular consultations to determine governmental structure and autonomy. However the process was incomplete before conflict broke out in each state in 2011 between the GOS and the SPLM-N. Through 2013, the Sudanese Armed Forces (SAF) and the SPLM-N have fought each other for control of towns, mountain strongholds, and supply routes. The GOS has been accused of indiscriminately targeting civilian populations with aerial bombardment in the states of Blue Nile and South Kordofan. In 2013, SAF forces conducted more bombings and attacks in South Kordofan and Blue Nile than any other year since the independence of RSS in 2011.

Violence escalated and spread in April 2013 when Justice and Equality Movement (JEM) rebels attacked government troops in the North Kordofan state, seizing control of the town of Umm Ruwaba. Sudanese forces struck back immediately and retook control of the town from JEM. Aerial bombardment reportedly increased in November and December 2013. As of May 2014, the U.N. estimates that renewed fighting between the SAF and SPLM-N in recent months has newly displaced approximately 116,000 people in the Two Areas, while an additional 2 million people—including 1.2 million people in GoS-controlled areas and 800,000 in SPLM-N-controlled areas—remain displaced or severely affected by the conflict, which erupted in 2011.

More than 10 years since armed conflict began in 2003, violence persists in the Darfur region, with government-rebel clashes increasing in 2013. Peace treaties signed in 2006, 2011 and 2013 have failed to end the fighting. Violence and displacement increased in Darfur in 2014 with the arrival of the government's Rapid Support Forces (RSF), who perpetrated attacks on armed groups, but were also accused of attacking civilians and their properties, raiding and burning numerous villages. More than 2 million people remain displaced in Darfur, with 380,000 people newly displaced in 2013 and 390,100 cumulative new displacements as of July 6, both of which are more than in any year since 2004. In addition to warfare between opposition groups and the state, inter-communal violence persists between multiple groups. Adding to the instability in Darfur are increasing reports of criminal activity targeting civilians, government authorities, international humanitarian workers and peacekeepers. The frequency of criminal activity has also increased. This insecurity is compounded by evidence suggesting that the majority of criminal gangs in Darfur are comprised of former Janjaweed Arab militias that had been in the service of the GOS and are now acting independently of government control. Widespread impunity, the increased availability of weapons, high unemployment among youth, and the police force's inability to geographically cover all of Darfur combine to undermine stability.

Sudan continues to face internal conflicts on several fronts. On the national level, aerial bombardment by the SAF and violent clashes between rebel groups and GOS security forces occurred regularly. Human Rights Watch reported that in early April 2013, GOS security forces attacked the towns of Labado and Muhajariya and several other villages in South Darfur, and reportedly burned and looted homes, killed dozens of civilians and displaced tens of thousands. Since August 2013, the SAF has carried out air raids in North and South Darfur, almost daily. In January 2014, SAF continued bombings in North and South Darfur and reportedly carried out raids on villages.

GOS security services, rebel forces and other actors continued to inflict a range of human rights abuses against activists, opposition figures, and religious and ethnic minorities. Beginning in June 2012 and reaching a peak in September 2013, Khartoum and cities across Sudan experienced anti-regime protests. Despite the largely peaceful nature of these demonstrations, GOS security forces violently dispersed the gatherings, killing approximately 200 persons and detaining an additional 1,000 to 2,000 demonstrators.

Access to the conflict areas in Sudan is severely restricted. The GOS has placed limitations and pressure on journalists and international organizations. The GOS in February 2014 suspended the operations of the International Committee of the Red Cross throughout the country. Reports indicate that there is very limited humanitarian access to Blue Nile and South Kordofan states, and that as of October 2013, there was no humanitarian access to the areas of South Kordofan or Blue Nile controlled by rebels. As stated by the UN Under-Secretary-General for Peacekeeping Operations in February 2014, “protracted displacement, food insecurity and a lack of basic services drive chronic vulnerability in the region.” Deteriorating economic conditions have led to increased food and fuel prices, and shortages could threaten food security for some Sudanese. As of December 2013, UN estimates found that more than 6 million people were in need of humanitarian assistance. As of June 2014, approximately 5.3 million people are food insecure. UN estimates also found that throughout Sudan, 750,000 children suffer from severe acute malnutrition annually.

The conflict in Sudan has been prolonged and complicated by ethnic, economic, regional and international factors. While there is currently no active conflict in the eastern states due to the 2006 peace agreement, the situation in Red Sea, Kassala, and Gedaref remains tense. Instability in neighboring Chad, Central African Republic and the RSS put Sudan in a region facing a high risk of political violence. The outcome of the current conflict in the RSS will have a direct impact on the armed militias in Blue Nile and South Kordofan.

Based upon this review and after consultation with appropriate Government agencies, the Secretary finds that:

• The conditions that prompted the 2013 redesignation of Sudan for TPS continue to be met. See INA section 244(b)(3)(A) and (C), 8 U.S.C. 1254a(b)(3)(A) and (C).

• There continues to be an armed conflict in Sudan and, due to such conflict, requiring the return of Sudanese nationals to Sudan would pose a serious threat to their personal safety. See INA section 244(b)(1)(A), 8 U.S.C. 1254a(b)(1)(A).

• There continue to be extraordinary and temporary conditions in Sudan that prevent Sudanese nationals from returning to Sudan in safety. See INA section 244(b)(1)(C), 8 U.S.C. 1254a(b)(1)(C).

• It is not contrary to the national interest of the United States to permit Sudanese nationals (and persons who have no nationality who last habitually resided in Sudan) who meet the eligibility requirements of TPS to remain in the United States temporarily. See INA section 244(b)(1)(C), 8 U.S.C. 1254a(b)(1)(C).

• The designation of Sudan for TPS should be extended for an additional 18-month period from November 3, 2014 through May 2, 2016. See INA section 244(b)(3)(C), 8 U.S.C. 1254a(b)(3)(C).

• There are approximately 600 current Sudan TPS beneficiaries who are expected to apply for re-registration and may be eligible to retain their TPS under the extension.

Notice of Extension of the TPS Designation of Sudan

By the authority vested in me as Secretary under INA section 244, 8 U.S.C. 1254a, I have determined, after consultation with the appropriate Government agencies, that the conditions that prompted the redesignation of TPS for Sudan in 2013 continue to be met. See INA section 244(b)(3)(A), 8 U.S.C. 1254a(b)(3)(A). On the basis of this determination, I am extending the existing designation of TPS for Sudan for 18 months from November 3, 2014 through May 2, 2016. See INA section 244(b)(1)(A), (b)(1)(C) and (b)(2), 8 U.S.C. 1254a(b)(1)(A), (b)(1)(C) and (b)(2).

Jeh Charles Johnson,
Secretary.

Required Application Forms and Application Fees To Register or Re-Register for TPS

To register or re-register for TPS for Sudan, an applicant must submit each of the following two applications:

1. Application for Temporary Protected Status (Form I-821)

• If you are filing an application for late initial registration, you must pay the fee for the Application for Temporary Protected Status (Form I-821). See 8 CFR 244.2(f)(2) and 244.6. Information on late initial filing is available on the USCIS TPS Web page at http://www.uscis.gov/tps.

• If you are filing an application for re-registration, you do not need to pay the fee for the Application for Temporary Protected Status (Form I-821). See 8 CFR 244.17.

and

2. Application for Employment Authorization (Form I-765)

• If you are applying for late initial registration and want an EAD, you must pay the fee for the Application for Employment Authorization (Form I-765) only if you are age 14 through 65. No fee for the Application for Employment Authorization (Form I-765) is required if you are under the age of 14 or are 66 and older and applying for late initial registration.

• If you are applying for re-registration, you must pay the fee for the Application for Employment Authorization (Form I-765) only if you want an EAD, regardless of age.

• You do not pay the fee for the Application for Employment Authorization (Form I-765) if you are not requesting an EAD, regardless of whether you are applying for late initial registration or re-registration.

You must submit both completed application forms together. If you are unable to pay for the Application for Employment Authorization (Form I-765) and/or biometric service fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Re-Filing a Re-Registration TPS Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed to determine whether the applicant has established good cause for late re-registration. However, applicants are urged to re-file within 45 days of the date on their USCIS fee waiver denial notice, if at all possible. See INA section 244(c)(3)(C); 8 U.S.C. 1254a(c)(3)(C), 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the fee for the Application for Employment Authorization (Form I-765), until after USCIS has approved the individual's TPS re-registration, if he or she is eligible. If you choose to do this, you would file the Application for Temporary Protected Status (Form I-821) with the fee and the Application for Employment Authorization (Form I-765) without fee and without requesting an EAD.

Mailing Information

Mail your application for TPS to the proper address in Table 1.

Table 1—Mailing Addresses
If . . . | Mail to . . .
You are applying through the U.S. Postal Service | USCIS, Attn: TPS Sudan, P.O. Box 6943, Chicago, IL 60680-6943.
You are using a non-U.S. Postal Service delivery service | USCIS, Attn: TPS Sudan, 131 S. Dearborn 3rd Floor, Chicago, IL 60603-5517.

If you were granted TPS by an Immigration Judge (IJ) or the Board of Immigration Appeals (BIA), and you wish to request an EAD, or are re-registering for the first time following a grant of TPS by an IJ or the BIA, please mail your application to the appropriate address in Table 1. Upon receiving a Notice Action (Form I-797) from USCIS, please mail your application to the appropriate address in Table 1. Upon receiving a Notice of Action (Form I-797) from USCIS, please send an email to TPSijgrant.vsc@uscis.dhs.gov with the receipt number and state that you submitted a re-registration and/or request for an EAD based on an IJ/BIA grant of TPS. You can find detailed information on what further information you need to email and the email address on the USCIS TPS Web page at http://www.uscis.gov/tps.

E-Filing

You cannot electronically file your application when re-registering or submitting a late initial registration for Sudan TPS. Please mail your application to the mailing address listed in Table 1.

Employment Authorization Document (EAD)

May I request an interim EAD at my local USCIS office?

No. USCIS will not issue interim EADs to TPS applicants or re-registrants at local offices.

Am I eligible to receive an automatic 6-month extension of my current EAD through May 2, 2015?

Provided that you currently have TPS under the Sudan designation, this Notice automatically extends your EAD by 6 months if you:

• Are a national of Sudan (or an alien having no nationality who last habitually resided in Sudan);

• Received an EAD under the last extension or redesignation of TPS for Sudan; and

• Have an EAD with a marked expiration date of November 2, 2014, bearing the notation “A-12” or “C-19” on the face of the card under “Category.”

Although this Notice automatically extends your EAD through May 2, 2015, you must re-register timely for TPS in accordance with the procedures described in this Notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). You may present an acceptable receipt for List A, List B, or List C documents as described in the Form I-9 Instructions. An EAD is an acceptable document under “List A.” Employers may not reject a document based on a future expiration date.

If your EAD has an expiration date of November 2, 2014, and states “A-12” or “C-19” under “Category,” it has been extended automatically for 6 months by virtue of this Federal Register Notice, and you may choose to present your EAD to your employer as proof of identity and employment authorization for Employment Eligibility Verification (Form I-9) through May 2, 2015 (see the subsection titled “How do my employer and I complete the Employment Eligibility Verification (Form I-9) using an automatically extended EAD for a new job?” for further information). To minimize confusion over this extension at the time of hire, you may also show your employer a copy of this Federal Register Notice confirming the automatic extension of employment authorization through May 2, 2015. As an alternative to presenting your automatically extended EAD, you may choose to present any other acceptable document from List A, or a combination of one selection from List B and one selection from List C.

What documentation may I show my employer if I am already employed but my current TPS-related EAD is set to expire?

Even though EADs with an expiration date of November 2, 2014 that state “A-12” or “C-19” under “Category” have been automatically extended for 6 months by this Federal Register Notice, your employer will need to ask you about your continued employment authorization once November 2, 2014, is reached to meet its responsibilities for Employment Eligibility Verification (Form I-9). However, your employer does not need a new document to reverify your employment authorization until May 2, 2015, the expiration date of the automatic extension. Instead, you and your employer must make corrections to the employment authorization expiration dates in Section 1 and Section 2 of Employment Eligibility Verification (Form I-9) (see the subsection titled “What corrections should my current employer and I make to Employment Eligibility Verification (Form I-9) if my EAD has been automatically extended?” for further information). In addition, you may also show this Federal Register Notice to your employer to explain what to do for Employment Eligibility Verification (Form I-9).

By May 2, 2015, the expiration date of the automatic extension, your employer must reverify your employment authorization. At that time, you must present any document from List A or any document from List C on Employment Eligibility Verification (Form I-9) to reverify employment authorization, or an acceptable List A or List C receipt described in the Form I-9 Instructions. Your employer should complete either Section 3 of the Employment Eligibility Verification (Form I-9) originally completed for the employee or, if this Section has already been completed or if the version of Employment Eligibility Verification (Form I-9) has expired (check the date in the upper right-hand corner of the form), complete Section 3 of a new Employment Eligibility Verification (Form I-9) using the most current version. Note that your employer may not specify which List A or List C document employees must present, and cannot reject an acceptable receipt.

Can my employer require that I produce any other documentation to prove my status, such as proof of my Sudanese citizenship?

No. When completing Employment Eligibility Verification (Form I-9), including re-verifying employment authorization, employers must accept any documentation that appears on the “Lists of Acceptable Documents” for Employment Eligibility Verification (Form I-9) that reasonably appears to be genuine and that relates to you or an acceptable List A, List B, or List C receipt. Employers may not request documentation that does not appear on the “Lists of Acceptable Documents.” Therefore, employers may not request proof of Sudanese citizenship when completing Employment Eligibility Verification (Form I-9) for new hires or reverifying the employment authorization of current employees. If presented with EADs that have been automatically extended, employers should accept such EADs as valid List A documents so long as the EADs reasonably appear to be genuine and to relate to the employee. Refer to the Note to Employees section of this Notice for important information about your rights if your employer rejects lawful documentation, requires additional documentation, or otherwise discriminates against you based on your citizenship or immigration status, or your national origin.

What happens after May 2, 2015, for purposes of employment authorization?

After May 2, 2015, employers may no longer accept the EADs that this Federal Register Notice automatically extended. Before that time, however, USCIS will issue new EADs to eligible TPS re-registrants who request them. These new EADs will have an expiration date of May 2, 2016, and can be presented to your employer for completion of Employment Eligibility Verification (Form I-9). Alternatively, you may choose to present any other legally acceptable document or combination of documents listed on the Employment Eligibility Verification (Form I-9).

How do my employer and I complete Employment Eligibility Verification (Form I-9) using an automatically extended EAD for a new job?

When using an automatically extended EAD to complete Employment Eligibility Verification (Form I-9) for a new job prior to May 2, 2015, you and your employer should do the following:

1. For Section 1, you should:

a. Check “An alien authorized to work”;

b. Write your alien number (USCIS number or A-number) in the first space (your EAD or other document from DHS will have your USCIS number or A-number printed on it; the USCIS number is the same as your A-number without the A prefix); and

c. Write the automatically extended EAD expiration date (May 2, 2015) in the second space.

2. For Section 2, employers should record the:

a. Document title;

b. Document number; and

c. Automatically extended EAD expiration date (May 2, 2015).

By May 2, 2015, employers must reverify the employee's employment authorization in Section 3 of the Employment Eligibility Verification (Form I-9).

What corrections should my current employer and I make to Employment Eligibility Verification (Form I-9) if my EAD has been automatically extended?

If you are an existing employee who presented a TPS-related EAD that was valid when you first started your job, but that EAD has now been automatically extended, you and your employer should correct your previously completed Employment Eligibility Verification (Form I-9) as follows:

1. For Section 1, you should:

a. Draw a line through the expiration date in the second space;

b. Write “May 2, 2015” above the previous date;

c. Write “TPS Ext.” in the margin of Section 1; and

d. Initial and date the correction in the margin of Section 1.

2. For Section 2, employers should:

a. Draw a line through the expiration date written in Section 2;

b. Write “May 2, 2015” above the previous date;

c. Write “TPS Ext.” in the margin of Section 2; and

d. Initial and date the correction in the margin of Section 2.

By May 2, 2015, when the automatic extension of EADs expires, employers must reverify the employee's employment authorization in Section 3.

If I am an employer enrolled in E-Verify, what do I do when I receive a “Work Authorization Documents Expiration” alert for an automatically extended EAD?

If you are an employer who participates in E-Verify and you have an employee who is a TPS beneficiary who provided a TPS-related EAD when he or she first started working for you, you will receive a “Work Authorization Documents Expiring” case alert when this EAD is about to expire. Usually, this message is an alert to complete Section 3 of the Employment Eligibility Verification (Form I-9) to reverify an employee's employment authorization. For existing employees with TPS-related EADs that have been automatically extended, employers should dismiss this alert by clicking the red “X” in the “dismiss alert” column and follow the instructions above explaining how to correct the Employment Eligibility Verification (Form I-9). By May 2, 2015, employment authorization must be reverified in Section 3. Employers should never use E-Verify for reverification.

Note to All Employers

Employers are reminded that the laws requiring proper employment eligibility verification and prohibiting unfair immigration-related employment practices remain in full force. This Notice does not supersede or in any way limit applicable employment verification rules and policy guidance, including those rules setting forth re-verification requirements. For general questions about the employment eligibility verification process, employers may call USCIS at 888-464-4218 (TTY for the hearing impaired is at 877-875-6028) or email USCIS at I-9Central@dhs.gov. Calls and emails are accepted in English and many other languages. For questions about avoiding discrimination during the employment eligibility verification process (I-9 and E-Verify), employers may also call the U.S. Department of Justice, Office of Special Counsel for Immigration-Related Unfair Employment Practices (OSC) Employer Hotline at 800-255-8155 (TTY 800-237-2515), which offers language interpretation in numerous languages, or email OSC at osccrt@usdoj.gov.

Note to Employees

For general questions about the employment eligibility verification process, employees may call USCIS at 888-897-7781 (TTY for the hearing impaired is at 877-875-6028) or email at I-9Central@dhs.gov. Calls are accepted in English, Spanish and many other languages. Employees or applicants may also call the OSC Worker Information Hotline at 800-255-7688 (TTY 800-237-2515) for information regarding employment discrimination based upon citizenship, immigration status, or national origin related to Employment Eligibility Verification (Form I-9) and E-Verify. The OSC Worker Information Hotline provides language interpretation in numerous languages.

To comply with the law, employers must accept any document or combination of documents from the List of Acceptable Documents if the documentation reasonably appears to be genuine and to relate to the employee, or an acceptable List A, List B, or List C receipt described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from the Social Security Administration, DHS, or DOS records. Employers may not terminate, suspend, delay training, withhold pay, lower pay or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY for the hearing impaired is at 877-875-6028). To report an employer that discriminates against an employee in the E-Verify process based on citizenship or immigration status, or based on national origin, contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your unexpired EAD that has been automatically extended, or your EAD that has not expired;

(2) A copy of this Federal Register Notice if your EAD is automatically extended under this Notice;

(3) A copy of your Application for Temporary Protected Status Notice of Action (Form I-797) for this re-registration;

(4) A copy of your past or current Application for Temporary Protected Status Notice of Action (Form I-797), if you received one from USCIS; and/or

(5) If there is an automatic extension of work authorization, a copy of the fact sheet from the USCIS TPS Web site that provides information on the automatic extension.

Check with the government agency regarding which document(s) the agency will accept. You may also provide the agency with a copy of this Federal Register Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at http://www.uscis.gov/save, then by choosing “How to Correct Your Records” from the menu on the right.

[FR Doc. 2014-20708 Filed 8-29-14; 8:45 am]

BILLING CODE 9111-97-P